ENVIRONMENTAL PROTECTION AGENCY

[EPA-HQ-OPP-2022-0223; FRL-10923-01-OCSPP]

Chlorpyrifos; Notice of Intent To Cancel Certain Pesticide Registrations and Amend Registrations To Terminate Certain Uses

AGENCY: Environmental Protection Agency (EPA).

ACTION: Notice.

SUMMARY: In accordance with the Federal Insecticide, Fungicide and Rodenticide Act (FIFRA), EPA is issuing a notice of receipt of requests by registrants to voluntarily cancel their registrations of certain products containing the pesticide chlorpyrifos, or to amend their chlorpyrifos registrations to terminate one or more uses. EPA intends to grant these requests at the close of the comment period for this announcement, unless the Agency receives substantive comments within the comment period that would merit its further review, or the registrant withdraws their request. If these requests are granted, any sale, distribution, or use of products listed in this notice will be permitted after the registrations have been cancelled or the uses terminated only if such sale, distribution, or use is consistent with the terms as described in the final order.

DATES: Comments must be received on or before June 2, 2023, whichever occurs later.

ADDRESSES: The docket for this action, identified under docket identification (ID) number EPA-HQ-OPP-2022-0223, is available online at https://www.regulations.gov. Additional instructions on visiting the docket, along with more information about dockets generally, is available at https://www.epa.gov/dockets. For the latest status information on EPA/DC services and docket access, visit https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through https://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/where-send-comments-epa-dockets.

II. What action is the Agency taking?

This notice announces receipt by the Agency of requests from registrants to cancel certain pesticide product registrations or terminate certain uses of product registrations. These affected registrations are listed in sequence by registration number in Tables 1 and 2 of this Unit. Table 3 of this Unit includes the names and addresses of record for the registrants of the products listed in Tables 1 and 2 of this Unit, in sequence by EPA company number. This number corresponds to the first part of the EPA registration numbers of the products listed in Tables 1 and 2 of this Unit.

Unless the Agency determines that there are substantive comments that warrant further review of the requests or the registrants withdraw their requests, EPA intends to issue a final order in the Federal Register cancelling registrations and terminating uses as requested.

Table 1—Chlorpyrifos Registrations With Pending Requests for Termination of Specific Uses
Registration No. | Company No. | Product name | Uses to be terminated
11678-58 | 11678 | Pyrinex Chlorpyrifos Insecticide | Food processing plants.
66222-19 | 66222 | Chlorpyrifos 4E AG | Food processing and food manufacturing sites.
66222-233 | 66222 | Vulcan | Food processing and food manufacturing sites.
85724-10 | 85724 | Akofos 48 EC | Food uses: Alfalfa, apple (including apple tree trunk), asparagus, cherries, citrus fruits (calamondin, chironja, citrus citron, citrus hybrids, grapefruit, kumquat, lemons, limes, mandarin (tangerine), oranges, pummelo, Satsuma mandarin, tangelo, tangor, and other citrus fruit, small transplanted grapefruit, orange, and other citrus trees), corn, cotton, cranberries, figs, grapes, legume vegetables (legume vegetables including adzuki bean, asparagus bean, bean, blackeyed pea, broad bean (dry and succulent), catjang, chickpea, Chinese longbean, cowpea, crowder pea, dwarf pea, edible pod pea, English pea, fava bean, field bean, field pea, garbanzo bean, garden pea, grain lupin, green pea, guar, hyacinth bean, jackbean, kidney bean, lablab bean, lentil, lima bean, moth bean, mung bean, navy bean, pea, pigeon pea, pinto bean, rice bean, runner bean, snap bean, snow pea, English pea, southern pea, sugar snap pea, sweet lupin, sword bean, tepary bean, urd bean, wax bean, white lupin, white sweet lupin, yardlong bean), mint (peppermint and spearmint), nectarines, peaches, almonds, onions, peanuts, pears, sorghum grain (milo), soybeans, strawberries, sugar beets, sunflowers, sweet potatoes, tree fruits (apples, pears, plums, prunes, peaches, nectarines), tree nuts (almonds, filberts, pecans, walnuts), vegetables (rutabaga, broccoli, Brussels sprout, cabbage, cauliflower, Chinese cabbage, collards, kale, kohlrabi, turnips, radishes), wheat, and food processing plants. Nonfood uses: Tobacco.

Table 2—Chlorpyrifos Product Registrations With Pending Requests for Cancellation
EPA registration No. | Product name | Company | Active ingredients
228-620 | Nufarm Chlorpyrifos SPC 2.32% G Insecticide | NuFarm Americas, Inc | Chlorpyrifos.
228-621 | Nufarm Chlorpyrifos SPC 1.0% MCB Insecticide | NuFarm Americas, Inc | Chlorpyrifos.
228-624 | Nufarm Chlorpyrifos SPC 4 Insecticide | NuFarm Americas, Inc | Chlorpyrifos.
228-625 | Nufarm Chlorpyrifos SPC 2 Insecticide | NuFarm Americas, Inc | Chlorpyrifos.
53883-394 | CSI 16-150 Chlorpyrifos 42 | Control Solutions, Inc | Chlorpyrifos.
53883-407 | CSI 16-149 Chlorpyrifos 20 | Control Solutions, Inc | Chlorpyrifos.
84229-25 | Chlorpyrifos 4E AG | Tide International USA, Inc | Chlorpyrifos.
84229-26 | Chlorpyrifos 15G | Tide International USA, Inc | Chlorpyrifos.

Table 3—Registrants Requesting Voluntary Cancellation or Termination of Uses
EPA company No. | Company name and address
228 | NuFarm, 4020 Aerial Center Pkwy., Ste. 101, Morrisville, NC 27560.
11678 | ADAMA US, 3120 Highwoods Boulevard, Ste. 100, Raleigh, NC 27604.
53883 | Control Solutions, Inc., 5903 Genoa Red Bluffs Rd., Pasadena, TX 77507.
66222 | ADAMA US, 3120 Highwoods Boulevard, Ste. 100, Raleigh, NC 27604.
84229 | Tide International USA, Inc., Agent Name: Pyxis Regulatory Consulting, Inc., 4110 136th Street Ct. NW, Gig Harbor, WA 98332.
85724 | AAKO B.V., c/o Ceres International, LLC, 1087 Heartsease Dr., West Chester, PA 19382.

III. What is the Agency's authority for taking these actions?

Section 6(f)(1) of FIFRA (7 U.S.C. 136d(f)(1)) provides that a registrant of a pesticide product may at any time request that any of its pesticide registrations be cancelled or amended to terminate one or more registered uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrant requests a waiver of the comment period, or

2. The EPA Administrator determines that continued use of the pesticide would pose an unreasonable adverse effect on the environment.

The registrants in Table 3 of Unit II have requested that EPA waive the 180-day comment period. Accordingly, EPA will provide a 30-day comment period on the proposed requests.

IV. Procedures for Withdrawal of Request

Registrants who choose to withdraw a request for cancellation or withdraw a request for a use termination should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

If the requests for voluntary cancellation and amendments to terminate uses are granted, the Agency intends to publish a final cancellation order in the Federal Register. In any order issued in response to these requests for cancellation of product registrations and for amendments to terminate uses, EPA proposes to include the following provisions for the treatment of any existing stocks of the products listed in Tables 1 and 2 of Unit II.

All chlorpyrifos tolerances expired in the Federal Register on February 28, 2022 (87 FR 11222) (FRL-5993-05-OCSPP) and in the Federal Register on August 31, 2022 (86 FR 48315) (FRL-5993-04-OCSPP). Therefore, any food or animal feed treated with chlorpyrifos after February 28, 2022, is considered adulterated and cannot be delivered into interstate commerce. Consequently, EPA plans to prohibit existing stocks of chlorpyrifos products identified in Tables 1 and 2 of Unit 2 for food uses. Use of the products identified in Tables 1 and 2 of Unit II are permitted on non-food use sites, as long as such use is consistent with the label. EPA proposes prohibiting all sale and distribution of existing stocks of the chlorpyrifos products identified in Tables 1 and 2 of Unit II, except for export consistent with FIFRA section 17 (7 U.S.C. 136o) or for proper disposal in accordance with state regulations. In addition, EPA is working with Control Solutions, Inc. to develop plans for the return of existing stocks of their chlorpyrifos products. EPA will include in the final cancellation order terms allowing for distribution consistent with that return program.

List of Subjects in 40 CFR Part 180

Environmental protection, Pesticide and pests, Cancellation.

Dated: April 28, 2023.
Mary Elissa Reaves,
Director, Pesticide Re-Evaluation Division, Office of Pesticide Programs.

[FR Doc. 2023-09393 Filed 5-2-23; 8:45 am]

BILLING CODE 6560-50-P